DEPARTMENT OF STATE

[Public Notice: 12524]

U.S. Department of State Advisory Committee on Private International Law: Public meeting on the Convention on Choice of Courts Agreement, the Judgments Convention and the Singapore Convention

The Department of State's Advisory Committee on Private International Law (ACPIL) will hold its next meeting at Texas A&M University School of Law in Fort Worth, Texas, on Thursday and Friday, October 24-25, 2024, in a hybrid format, from 9:00 a.m. to 4:00 p.m.

The meeting will focus on the Convention of 30 June 2005 on Choice of Court Agreements (“CoCA”), the Convention of 2 July 2019 on the Recognition and Enforcement of Foreign Judgments in Civil or Commercial Matters (“Judgments Convention”), and the Convention on International Settlement Agreements Resulting from Mediation (“Singapore Convention”). To briefly summarize each convention:

CoCA seeks to ensure the effectiveness of exclusive choice of court agreements (i.e., forum selection clauses) between parties to international commercial transactions. It requires that (1) the chosen court must hear the case when proceedings are brought before it; (2) any other court before which proceedings are brought must refuse to hear them; and (3) the judgment of the chosen court must be recognized and enforced.

The Judgments Convention provides a set of global legal rules for the recognition and enforcement of foreign judgments involving international commercial transactions. It seeks to provide legal predictability and reduces the incidence of duplicative proceedings in multiple countries by allowing a judgment originating from one Contracting State to be enforced in another without the need to relitigate the merits of the claims.

The Singapore Convention establishes a harmonized legal framework to enforce international settlement agreements resulting from mediation and to prevent relitigating issues resolved by such agreements. It ensures that an international settlement resulting from mediation becomes binding and enforceable in Contracting States in accordance with a simplified and streamlined procedure.

We will be seeking input and guidance from attendees regarding efforts toward U.S. ratification of these conventions.

Prior to the meeting, we will circulate a draft agenda and additional documentation, such as draft proposed implementing legislation, to those confirming attendance.

Time and Place: The meeting will take place on Thursday and Friday, October 24-25, from 9 a.m. until 4 p.m. via a hybrid format at Texas A&M University School of Law, 1515 Commerce Street, Fort Worth, Texas 76102. Those who cannot participate in the meeting but wish to comment may do so by email to Joseph Khawam at pil@state.gov.

Participation: Those planning to attend the meeting should provide to pil@state.gov no later than September 30, 2024, the following information: name, affiliation, contact information, and whether attending in-person or virtually. Room information for in-person attendance and a Zoom link for virtual attendance will be provided following registration. Anyone needing reasonable accommodation should notify pil@state.gov not later than October 4, 2024. Requests made after that date will be considered but might not be able to be fulfilled.

Sarah E. Prosser,
Assistant Legal Adviser, Office of Private International Law Department of State.

[FR Doc. 2024-20151 Filed 9-5-24; 8:45 am]

BILLING CODE 4710-08-P